DEPARTMENT OF DEFENSE

Office of the Secretary

[DOD-2006-OS-0185]

Privacy Act of 1974; Systems of Records

AGENCY: Defense Finance and Accounting Service.

ACTION: Notice to add a new system of records.

SUMMARY: The Defense Finance and Accounting Service (DFAS) is proposing to add a system of records notice to its inventory of record systems subject to the Privacy Act of 1974 (5 U.S.C. 552a), as amended.

DATES: This Action will be effective without further notice on September 25, 2006 unless comments are received that would result in a contrary determination.

ADDRESSES: Send comments to the FOIA/PA Program Manager, Corporate Communications, Defense Finance and Accounting Service, 6760 E. Irvington Place, Denver, CO 80279-8000.

FOR FURTHER INFORMATION CONTACT: Ms. Linda Krabbenhoft at (303) 676-6045.

SUPPLEMENTARY INFORMATION: The Defense Finance and Accounting Service notices for systems of records subject to the Privacy Act of 1974 (5 U.S.C. 552a), as amended, have been published in the Federal Register, and are available from the address above.

The proposed system report, as required by 5 U.S.C. 552a(r) of the Privacy Act of 1974, as amended, was submitted on August 14, 2006, to the House Committee on Government Reform, the Senate Committee on Homeland Security and Governmental Affairs, and the Office of Management and Budget (OMB) pursuant to paragraph 4c of Appendix I to OMB Circular No. A-130, `Federal Agency Responsibilities for Maintaining Records About Individuals,' dated February 8, 1996 (February 20, 1996, 61 FR 6427).

Dated: August 18, 2006.
C.R. Choate,
Alternate OSD Federal Register Liaison Officer, Department of Defense.

T7340b

System name:

Case Management System (CMS).

System location:

Defense Enterprise Computing Center—Mechanicsburg, 5450 Carlisle Pike, Mechanicsburg, PA 17050-0975.

Categories of individuals covered by the system:

Active duty enlisted, warrant and commissioned officers, National Guard, Reserve, and retired military personnel.

Categories of records in the system:

Military member data included in the records are name, Social Security Number, rank, supporting documents pertaining to military pay entitlements and allowances, deductions, collections, duty status, and personnel actions.

Authority for maintenance of the system:

5 U.S.C. 301, Departmental Regulations; 37 U.S.C. Chapters 1-19; DoD Financial Management Regulations 7000.14-R; and E.O. 9397 (SSN).

Purpose(s):

CMS is a management tool system used for tracking, resolving and reporting on military pay and personnel related cases. It provides a single source of information for monitoring military pay problems in a timely and efficient manner, to include providing visibility to appropriate levels of management, permitting feedback to service members, and facilitating the identification of problem trends.

Routine uses of records maintained in the system, including categories of users and the purposes of such uses:

In addition to those disclosures generally permitted under 5 U.S.C. 552a(b) of the Privacy Act, the ‘Blanket Routine Uses’ set forth at the beginning of DFAS compilation of systems of records notices also apply to this system.

Policies and practices for storing, retrieving, accessing, retaining, and disposing of records in the system:

Storage:

Electronic storage media.

Retrievability:

Name, Social Security Number (SSN) and case number.

Safeguards:

Records are stored in office buildings protected by guards, controlled screening, use of visitor registers, electronic access, and/or locks. Access to records is limited to individuals who are properly screened and cleared on a need to know basis in the performance of their official duties. Passwords and digital signatures are to control access to the systems data, and procedures are in place to deter and detect browsing and unauthorized access. Physical and electronic access are limited to persons responsible for servicing and authorized to use the record system.

Retention and disposal:

Cases will be retained for 6 years and 3 months after the case is closed.

System manager(s) and address:

CMS Program System Manager, 3990 E. Broad Street, Columbus, OH 43213.

Notification procedure:

Individuals seeking to determine whether information about themselves is contained in this system of records should address written inquiries to the Defense Finance and Accounting Service, Corporate Communications and Legislative Liaison, Freedom of Information/Privacy Act Program Manager, 6760 E. Irvington Place, Denver, CO 80279-8000.

Individuals should furnish full name, Social Security Number, current address, and telephone number.

Record access procedures:

Individuals seeking access to information about themselves contained in this system of records should address written inquiries to the Defense Finance and Accounting Service, Corporate Communications and Legislative Liaison, Freedom of Information Act/Privacy Act Program Manager, 6760 E. Irvington Place, Denver, CO 80279-8000.

Individuals should furnish full name, Social Security Number, current address, and telephone number.

Contesting record procedures:

The DFAS rules for accessing records, for contesting contents and appealing initial agency determinations are contained in DFAS Regulation 5400.11-R; 32 CFR part 324; or may be obtained from the Defense Finance and Accounting Service, Freedom of Information Act/Privacy Act Program Manager, Corporate Communications and Legislative Liaison, 6760 E. Irvington Place, Denver, CO 80279-8000.

Record source categories:

From the individual concerned, DoD Components, and other Federal agencies.

Exemptions claimed for the system:

None.

[FR Doc. 06-7154 Filed 8-24-06; 8:45 am]

BILLING CODE 5001-06-M